DEPARTMENT OF HOMELAND SECURITY

Coast Guard

33 CFR Part 117

[Docket No. USCG-2009-0293]

Drawbridge Operation Regulation; Biscayne Bay, Miami, FL

AGENCY: Coast Guard, DHS.

ACTION: Notice of temporary deviation from regulations.

SUMMARY: The Commander, Seventh Coast Guard District, has issued a temporary deviation from the regulation governing the operation of the Venetian Causeway Bridge (East) across the Miami Beach Channel (Biscayne Bay), mile 0.0 at Miami, FL. The deviation is necessary to perform rehabilitation work on the bridge. This deviation allows the bridge to not open to vessel traffic from May 1 through June 20, 2009, except for emergency response vessels.

DATES: This deviation is effective from May 1, 2009 until June 20, 2009.

ADDRESSES: Documents mentioned in this preamble as being available in the docket are part of docket USCG-2009-0293 and are available online by going to http://www.regulations.gov, selecting the Advanced Docket Search option on the right side of the screen, inserting USCG-2009-0293 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Michael Lieberum, Bridge Branch, Seventh Coast Guard District, telephone 305-415-6744, e-mail Michael.b.lieberum@uscg.mil. If you have questions on viewing the docket, call Renee V. Wright, Program Manager, Docket Operations, telephone 202-366-9826.

SUPPLEMENTARY INFORMATION: This deviation was requested by the contractor, Kiewit Construction, on behalf of the bridge owner, Miami-Dade County, in order to complete rehabilitation and painting of the Venetian Causeway Bridge (East) across Miami Beach Channel (Biscayne Bay), Miami, FL. The bridge has a vertical clearance of 5 feet in the closed position and a horizontal clearance of 57 feet. The work will require a waterway closure from May 1 through June 20, 2009, for the safety of the workers. From May 1 through May 30, 2009, this bridge will also be closed to vehicle traffic. The normal operating schedule for the bridge is in 33 CFR 117.269, which states that the draw shall open on signal, except that from 7 a.m. to 7 p.m., Monday through Friday, except Federal holidays, the bridge need only open on the hour and half-hour. This deviation is effective until June 20, 2009.

In accordance with 33 CFR 117.35(e), the drawbridge must return to its regular operating schedule immediately at the end of the designated time period. This deviation from the operating regulations is authorized under 33 CFR 117.35.

Dated: May 1, 2009.
P.J. Brown,
Captain, U.S. Coast Guard, Commander, Seventh Coast Guard District, Acting.

[FR Doc. E9-11691 Filed 5-19-09; 8:45 am]

BILLING CODE 4910-15-P